DEPARTMENT OF HEALTH AND HUMAN SERVICES

Health Resources and Services Administration

Advisory Council; Notice of Meeting

In accordance with section 10(a)(2) of the Federal Advisory Committee Act (Pub. L. 92-463), announcement is made of the following National Advisory body scheduled to meet during the month of April 2001.

Name: National Advisory Council on Nurse Education and Practice (NACNEP).

Date and Time: April 26, 2001; 8:30 a.m.—5 p.m.; April 27, 2001; 8:30 a.m.—3 p.m.

Place: Holiday Inn Silver Spring, 8777 Georgia Avenue, Silver Spring, Maryland 20910.

The meeting is open to the public.

Agenda: Invited comments from Nursing Organizations regarding nursing workforce and shortage issues followed by discussion. NACNEP small group working sessions related to nursing workforce and practice issues with review, discussion, and endorsement of policy document and recommendations of Ad Hoc Council work group. Administrative update of relevant issues since the last Council meeting and Council discussion and vote on procedural matters.

Anyone interested in obtaining a roster of members, minutes of the meeting, or other relevant information should write or contact Ms. Elaine G. Cohen, Executive Secretary, National Advisory Council on Nurse Education and Practice, Parklawn Building, Room 9-35, 5600 Fishers Lane, Rockville, Maryland 20857, telephone (301) 443-1405.

Dated: March 29, 2001.
Jane M. Harrison,
Director, Division of Policy Review and Coordination.

[FR Doc. 01-8248 Filed 4-3-01; 8:45 am]

BILLING CODE 4160-15-U